DEPARTMENT OF ENERGY

Federal Energy Regulatory Commission

Combined Notice of Filings #1

Take notice that the Commission received the following electric rate filings:

Docket Numbers: ER12-21-004; ER12-1521-001; ER12-1522-001; ER12-1626-001; ER10-2605-004.

Applicants: Agua Caliente Solar, LLC, Alta Wind VII, LLC, Alta Wind IX, LLC, Topaz Solar Farms LLC, Yuma Cogeneration Associates.

Description: Notification of Change in Status of the MidAmerican Southwest MBR Sellers.

Filed Date: 12/7/12.

Accession Number: 20121207-5120.

Comments Due: 5 p.m. ET 12/28/12.

Docket Numbers: ER12-2617-001.

Applicants: Midwest Independent Transmission System Operator, Inc.

Description: SA 2431 Glacial Ridge Wind-GRE Deficiency Filing to be effective 9/13/2012.

Filed Date: 12/7/12.

Accession Number: 20121207-5027.

Comments Due: 5 p.m. ET 12/28/12.

Docket Numbers: ER13-360-001.

Applicants: Grand Ridge Energy LLC.

Description: Supplemental Filing of Amended Co-Tenancy, and Shared Facilities Agreement to be effective 11/14/2012.

Filed Date: 12/7/12.

Accession Number: 20121207-5070.

Comments Due: 5 p.m. ET 12/28/12.

Docket Numbers: ER13-361-001.

Applicants: Grand Ridge Energy II LLC.

Description: Supplemental Filing of Amended Co-Tenancy, and Shared Facilities Agreement to be effective 11/14/2012.

Filed Date: 12/7/12.

Accession Number: 20121207-5072.

Comments Due: 5 p.m. ET 12/28/12.

Docket Numbers: ER13-362-001.

Applicants: Grand Ridge Energy III LLC.

Description: Supplemental Filing of Amended Co-Tenancy, and Shared Facilities Agreement to be effective 11/14/2012.

Filed Date: 12/7/12.

Accession Number: 20121207-5073.

Comments Due: 5 p.m. ET 12/28/12.

Docket Numbers: ER13-363-001.

Applicants: Grand Ridge Energy IV LLC.

Description: Supplemental Filing of Amended Co-Tenancy, and Shared Facilities Agreement to be effective 11/14/2012.

Filed Date: 12/7/12.

Accession Number: 20121207-5074.

Comments Due: 5 p.m. ET 12/28/12.

Docket Numbers: ER13-374-001.

Applicants: Grand Ridge Energy V LLC.

Description: Grand Ridge Energy V LLC submits tariff filing per 35.17(b): Supplemental Filing of Amended Co-Tenancy, and Shared Facilities Agreement to be effective 11/14/2012.

Filed Date: 12/7/12.

Accession Number: 20121207-5075.

Comments Due: 5 p.m. ET 12/28/12.

Docket Numbers: ER13-524-000.

Applicants: PJM Interconnection, L.L.C.

Description: Original Service Agreement No. 3445; Queue No. X1-073 to be effective 11/14/2012.

Filed Date: 12/6/12.

Accession Number: 20121206-5107.

Comments Due: 5 p.m. ET 12/27/12.

Docket Numbers: ER13-525-000.

Applicants: Pacific Gas and Electric Company.

Description: 2nd Amendment to Gates Solar Station LGIA WDT SA No. 87 to be effective 12/4/2012.

Filed Date: 12/6/12.

Accession Number: 20121206-5129.

Comments Due: 5 p.m. ET 12/27/12.

Docket Numbers: ER13-526-000.

Applicants: ITC Midwest LLC.

Description: Filing of Executed Agreement in Compliance with ER12-2070 with Modification to be effective 8/20/2012.

Filed Date: 12/6/12.

Accession Number: 20121206-5143.

Comments Due: 5 p.m. ET 12/27/12.

Docket Numbers: ER13-527-000.

Applicants: Westar Energy, Inc.

Description: Kansas Electric Power Cooperative, Inc., Balancing Area Services Agreement to be effective 10/1/2012.

Filed Date: 12/6/12.

Accession Number: 20121206-5161.

Comments Due: 5 p.m. ET 12/27/12.

Docket Numbers: ER13-528-000.

Applicants: Southwest Power Pool, Inc.

Description: Revisions to Section 10—Force Majeure and Indemnification to be effective 2/5/2013.

Filed Date: 12/7/12.

Accession Number: 20121207-5065.

Comments Due: 5 p.m. ET 12/28/12.

Docket Numbers: ER13-529-000

Applicants: PJM Interconnection, L.L.C.

Description: PJM Interconnection, L.L.C. submits tariff filing per 35.13(a)(2)(iii: Revisions to the PJM OATT Att DD re Avoidable Cost Rates to be effective 2/5/2013.

Filed Date: 12/7/12.

Accession Number: 20121207-5076.

Comments Due: 5 p.m. ET 12/28/12.

Docket Numbers: ER13-530-000.

Applicants: Arizona Public Service Company.

Description: Arizona Public Service Company submits tariff filing per 35.13(a)(2)(iii: Ajo Improvement Company Interconnection Agreement; Service Agreement No. 326 to be effective 12/28/2012.

Filed Date: 12/7/12.

Accession Number: 20121207-5123.

Comments Due: 5 p.m. ET 12/28/12.

Docket Numbers: ER13-531-000.

Applicants: Florida Power & Light Company.

Description: Florida Power & Light Company submits tariff filing per 35.13(a)(2)(iii: FPL and Seminole Electric Cooperative, Inc. Revisions to SA 162- A.35 Farnsworth to be effective 1/1/2013.

Filed Date: 12/7/12.

Accession Number: 20121207-5131.

Comments Due: 5 p.m. ET 12/28/12.

Docket Numbers: ER13-532-000.

Applicants: Southern California Edison Company.

Description: Southern California Edison Company submits tariff filing per 35.13(a)(2)(iii: Modifications to WDAT Generator Interconnection Procedures to be effective 12/8/2012.

Filed Date: 12/7/12.

Accession Number: 20121207-5145.

Comments Due: 5 p.m. ET 12/28/12.

Take notice that the Commission received the following PURPA 210(m)(3) filings:

Docket Numbers: QM13-1-000.

Applicants: Wisconsin Public Service Corporation, Upper Peninsula Power Company.

Description: Wisconsin Public Service Corporation submits the name and contact information of one additional potentially affected QF, Oneida Energy Inc.

Filed Date: 12/6/12.

Accession Number: 20121206-5165.

Comments Due: 5 p.m. ET 1/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2012.
Nathaniel J. Davis, Sr.,
Deputy Secretary.

[FR Doc. 2012-30283 Filed 12-14-12; 8:45 am]

BILLING CODE 6717-01-P